DEPARTMENT OF AGRICULTURE

Food and Nutrition Service

Submission for OMB Review; Comment Request

March 2, 2016.

The Department of Agriculture has submitted the following information collection requirement(s) to OMB for review and clearance under the Paperwork Reduction Act of 1995, Public Law 104-13. Comments are requested regarding (1) whether the collection of information is necessary for the proper performance of the functions of the agency, including whether the information will have practical utility; (2) the accuracy of the agency's estimate of burden including the validity of the methodology and assumptions used; (3) ways to enhance the quality, utility and clarity of the information to be collected; and (4) ways to minimize the burden of the collection of information on those who are to respond, including through the use of appropriate automated, electronic, mechanical, or other technological collection techniques or other forms of information technology.

Comments regarding this information collection received by April 7, 2016 will be considered. Written comments should be addressed to: Desk Officer for Agriculture, Office of Information and Regulatory Affairs, Office of Management and Budget (OMB), OIRA_Submission@omb.eop.gov or fax (202) 395-5806 and to Departmental Clearance Office, USDA, OCIO, Mail Stop 7602, Washington, DC 20250-7602. Copies of the submission(s) may be obtained by calling (202) 720-8958.

An agency may not conduct or sponsor a collection of information unless the collection of information displays a currently valid OMB control number and the agency informs potential persons who are to respond to the collection of information that such persons are not required to respond to the collection of information unless it displays a currently valid OMB control number.

Food and Nutrition Service

Title: WIC Participant and Program Characteristics Study.

OMB Control Number: 0584-NEW.

Summary of Collection: This data collection effort for the Special Supplemental Nutrition Program for Women, Infants, and Children (WIC) Participant and Program Characteristics Study is authorized by 7 CFR 246.25(b)(3) (2011). This legislation requires State and local agencies to provide information required by the U.S. Department of Agriculture's (USDA) Food and Nutrition Service (FNS) for the creation of biennial reports on WIC participant and program characteristics (PC). This information includes, at a minimum, income and nutritional risk characteristics of participants, information on breastfeeding incidence and duration, and participation in the program by category (pregnant, breastfeeding, and postpartum women; infants; and children) within each priority level (as established in 7 CFR 246.7 (e)(4)) and by migrant farmworker households. The study affirms USDA's Food, Nutrition, and Consumer Services' fourth strategic goal for 2014-2018: to ensure all of America's children have access to safe, nutritious, and balanced meals.

Need and Use of the Information: The WIC PC Study will collect updated program characteristics data from each of the 90 WIC State agencies. FNS uses this data for general program monitoring as well as for managing the information needs of the program. The data is used to estimate budgets, submit civil rights reporting, identify needs for research, and review current and proposed WIC policies and procedures. FNS uses this data to produce the WIC PC reports which provide the most comprehensive and up-to-date statistics on WIC.

Description of Respondents: State, Local, or Tribal Government.

Number of Respondents: 90.

Frequency of Responses: Reporting: Biennially.

Total Burden Hours: 530.

Food and Nutrition Service

Title: WIC Infant and Toddler Feeding Practices Study-2 (ITFPS-2) Age 5 Extension.

OMB Control Number: 0584-0580.

Summary of Collection: The Healthy, Hunger-Free Kids Act of 2010 (Pub. L. 111-296, Sec. 305) mandates programs under its authorization, including WIC, to cooperate with the United States Department of Agriculture (USDA) program research and evaluation activities. The USDA's Special Supplemental Nutrition Program for Women, Infants and Children (WIC) serves a highly-vulnerable population: low-income pregnant and post-partum women, infants, and children through their fifth birthday who are at nutritional risk. The program provides supplemental food packages, health referrals and nutrition education for participants. The Age 5 Extension will follow children through the entire period of their WIC eligibility, and provide the data to answer research questions relevant to WIC program and policy as well as the nutrition and wellbeing of children up to their 5th birthday.

Need and Use of the Information: The study is needed to provide the Food and Nutrition Service with information on the factors that influence feeding practices and the nutrition and health outcomes of children in the first three years of their lives. The Age 5 Extension study will expand the data collection to their fifth year of life.

Description of Respondents: Individuals or households; Businesses or other for-profit institutions; Not-for-profit institutions; and State, Local or Tribal Government.

Number of Respondents: 5,869.

Frequency of Responses: Reporting: On occasion; semi-annually.

Total Burden Hours: 11,619.

Ruth Brown,
Departmental Information Collection Clearance Officer.

[FR Doc. 2016-05065 Filed 3-7-16; 8:45 am]

BILLING CODE 3410-30-P